DEPARTMENT OF COMMERCE

National Oceanic and Atmospheric Administration

[RTID 0648-XB429]

Gulf of Mexico Fishery Management Council; Public Meetings

AGENCY: National Marine Fisheries Service (NMFS), National Oceanic and Atmospheric Administration (NOAA), Commerce.

ACTION: Notice; public hearings and webinar.

SUMMARY: The Gulf of Mexico Fishery Management Council (Council) will hold eight in-person public hearings and one webinar to solicit public comments on Coastal Migratory Pelagics (CMP) Amendment 32—Modifications to the Gulf of Mexico Migratory Group Cobia Catch Limits, Possession Limits, Size Limits, and Framework Procedure.

DATES: The public hearings will take place October 4-25, 2021. The in-person public hearings and webinar will begin at 6 p.m. and will conclude no later than 9 p.m., local time. For specific dates and times, see SUPPLEMENTARY INFORMATION. Written public comments must be received on or before 5 p.m. EDT on Tuesday, October 19, 2021.

ADDRESSES: Please visit the Gulf Council website at www.gulfcouncil.org for meeting materials and webinar registration information. Please note, in-person attendees will be expected to follow any current COVID-19 safety protocols as determined by the Council, hotel and each city. Such precautions will include wearing masks in the meeting room, room capacity restrictions, and/or social distancing. Masks may be removed while giving public testimony. If you prefer to “listen in”, you may access the log-on information by visiting our website at www.gulfcouncil.org.

Meeting addresses: The public hearings will be held in Orange Beach, AL; Destin, Madeira Beach, Ft. Myers, FL; Baton Rouge, LA; Gulfport, MS; Galveston and Corpus Christi, TX; and one virtual. For specific locations, see SUPPLEMENTARY INFORMATION.

Public comments: Comments may be submitted online through the Council's public portal by visiting www.gulfcouncil.org and clicking on “CONTACT US”.

FOR FURTHER INFORMATION CONTACT: Emily Muehlstein; Public Information Officer; emily.muehlstein@gulfcouncil.org, Gulf of Mexico Fishery Management Council; telephone: (813) 348-1630.

SUPPLEMENTARY INFORMATION: The agenda for the following eight in-person public hearings and one webinar is as follows: Council staff will brief the public on the purpose and need of the amendment. The Council is currently considering modifications to the Gulf of Mexico Migratory Group Cobia Catch Limits, Possession Limits, Size Limits, and Framework Procedure.

Staff and a Council member will be available to answer any questions, and the public will have the opportunity to provide testimony on the amendment and other related testimony.

In-Person Locations and Webinar:

Monday, October 4, 2021; Destin Community Center, 100 Stahlman Avenue, Destin, FL 32541; (850) 654-5184.

Tuesday, October 5, 2021; Holiday Inn Gulfport-Airport Hotel, 9515 Highway 49, Gulfport, MS 39503; (228) 679-1700.

Wednesday, October 6, 2021; Omni Bayfront, 900 North Shoreline Boulevard, Corpus Christi, TX 78401, (361) 887-1600.

Thursday, October 7, 2021; Hilton Galveston Island, 5400 Seawall Boulevard, Galveston, TX 77551; (409) 744-5000.

Wednesday, October 13, 2021; The City Centre at City Hall, 300 Municipal Dr., Madeira Beach, FL 33708; (727) 391-9951.

Thursday, October 14, 2021; Crowne Plaza Baton Rouge, 4728 Constitution Avenue, Baton Rouge, LA 70808; (225) 925-2244.

Monday, October 18, 2021; Crowne Plaza Ft. Myers at Bell Tower Shops, 13051 Bell Tower Drive, Ft. Myers, FL 33907; telephone: (239) 482-2900.

Tuesday, October 19, 2021; via webinar. Visit www.gulfcouncil.org website and click on the “meetings” tab for registration information. After registering, you will receive a confirmation email containing information about joining the webinar.

Monday, October 25, 2021; Perdido Beach Resort, 27200 Perdido Beach Resort Boulevard, Orange Beach, AL 36561; (251) 981-9811.

Special Accommodations

In-person meetings are physically accessible to people with disabilities. Requests for sign language interpretation or other auxiliary aids should be directed to Kathy Pereira (see ADDRESSES), at least 5 working days prior to the meeting date.

Authority: 16 U.S.C. 1801 et seq.

Dated: September 14, 2021.
Tracey L. Thompson,
Acting Deputy Director, Office of Sustainable Fisheries, National Marine Fisheries Service.

[FR Doc. 2021-20176 Filed 9-16-21; 8:45 am]

BILLING CODE 3510-22-P